DEPARTMENT OF THE INTERIOR

National Park Service

[NPS-WASO-NAGPRA-NPS0028955; PPWOCRADN0-PCU00RP14.R50000]

Notice of Inventory Completion: U.S. Department of Agriculture, Forest Service, Lassen National Forest, Susanville, CA

AGENCY: National Park Service, Interior.

ACTION: Notice.

SUMMARY: The U.S. Department of Agriculture, Forest Service, Lassen National Forest has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Lassen National Forest. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Lassen National Forest at the address in this notice by November 8, 2019.

ADDRESSES: Deb Bumpus, Forest Supervisor, USDA Forest Service, Lassen National Forest, 2550 Riverside Drive, Susanville, CA 96130, telephone (530) 252-6600, email deb.bumpus@usda.gov.

SUPPLEMENTARY INFORMATION: Notice is here given in accordance with the Native American Graves Protection and Repatriation Act (NAGPRA), 25 U.S.C. 3003, of the completion of an inventory of human remains under the control of the U.S. Department of Agriculture, Forest Service, Lassen National Forest, Susanville, CA. The human remains were removed from Payne Cave (CA-TEH-193), Tehama County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Lassen National Forest professional staff in consultation with representatives of the Pit River Tribe, California (includes XL Ranch, Big Bend, Likely, Lookout, Montgomery Creek and Roaring Creek Rancherias) and the Redding Rancheria, California.

History and Description of the Remains

In 1956, human remains representing, at minimum, two individuals were removed from Payne Cave (CA-TEH-193) in Tehama County, CA. The excavations were authorized by the Lassen National Forest, and were carried out by the University of California Archaeological Survey. Since 2005, the Lassen National Forest has been working with California State University Chico to complete analysis of the faunal and archeological collection from CA-TEH-193 and determine if any additional human remains are present in the collection. This examination, completed in 2018, identified 12 bones representing a minimum of two individuals. No known individuals were identified. No associated funerary objects are present. Based on ethnographic and historical accounts, as well as the geographical location of the cave, these human remains are affiliated with the Yana. The descendants of the Yana people are the Pitt River Tribe, California and the Redding Rancheria, California.

At an unknown date, human remains representing, at minimum, two individuals were removed from Paynes Cave Shelter (CA-THE-193) in Tehama County, CA. In 2018, the University of Idaho identified eight bones representing two individuals among the collection the Phoebe Hearst returned to the Lassen National Forest. No known individuals were identified. No associated funerary objects are present.

Determinations Made by the U.S. Department of Agriculture, Forest Service, Lassen National Forest

Officials of the U.S. Department of Agriculture, Forest Service, Lassen National Forest have determined that:

• Pursuant to 25 U.S.C. 3001(9), the human remains described in this notice represent the physical remains of four individuals of Native American ancestry.

• Pursuant to 25 U.S.C. 3001(2), there is a relationship of shared group identity that can be reasonably traced between the Pit River Tribe, California (includes XL Ranch, Big Bend, Likely, Lookout, Montgomery Creek and Roaring Creek Rancherias) and the Redding Rancheria, California.

Additional Requestors and Disposition

Lineal descendants or representatives of any Indian Tribe or Native Hawaiian organization not identified in this notice that wish to request transfer of control of these human remains should submit a written request with information in support of the request to Deb Bumpus, Forest Supervisor, USDA Forest Service, Lassen National Forest, 2550 Riverside Drive, Susanville, CA 96130, telephone (530) 252-6600, email deb.bumpus@usda.gov, by November 8, 2019. After that date, if no additional requestors have come forward, transfer of control of the human remains to the Pit River Tribe, California (includes XL Ranch, Big Bend, Likely, Lookout, Montgomery Creek and Roaring Creek Rancherias) and the Redding Rancheria, California may proceed.

The U.S. Department of Agriculture, Forest Service, Lassen National Forest is responsible for notifying the Pit River Tribe, California (includes XL Ranch, Big Bend, Likely, Lookout, Montgomery Creek and Roaring Creek Rancherias) and the Redding Rancheria, California that this notice has been published.

Dated: September 20, 2019
Melanie O'Brien,
Manager, National NAGPRA Program.

[FR Doc. 2019-22047 Filed 10-8-19; 8:45 am]

BILLING CODE 4312-52-P